DEPARTMENT OF HOMELAND SECURITY

Federal Emergency Management Agency

[Docket ID FEMA-2019-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of September 13, 2019 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Craig County, Oklahoma and Incorporated Areas
Docket No.: FEMA-B-1819
City of Vinita | City Hall, 104 East Illinois Avenue, Vinita, OK 74301.
Town of Big Cabin | Craig County Emergency Management, 915 East Apperson Road, Vinita, OK 74301.
Town of Bluejacket | Craig County Emergency Management, 915 East Apperson Road, Vinita, OK 74301.
Town of Ketchum | Craig County Emergency Management, 915 East Apperson Road, Vinita, OK 74301.
Town of Welch | Craig County Emergency Management, 915 East Apperson Road, Vinita, OK 74301.
Unincorporated Areas of Craig County | Craig County Emergency Management, 915 East Apperson Road, Vinita, OK 74301.
Delaware County, Oklahoma and Incorporated Areas
Docket No.: FEMA-B-1819
City of Grove | City Hall, 104 West 3rd Street, Grove, OK 74344.
City of Jay | Delaware County Emergency Management, 1411 South Broadway Street, Grove, OK 74344.
Town of Bernice | Delaware County Emergency Management, 1411 South Broadway Street, Grove, OK 74344.
Unincorporated Areas of Delaware County | Delaware County Emergency Management, 1411 South Broadway Street, Grove, OK 74344.
Mayes County, Oklahoma and Incorporated Areas
Docket No.: FEMA-B-1819
Town of Disney | Town Hall, 322 West Main Street, Disney, OK 74340.
Town of Grand Lake Towne | Mayes County Courthouse, 1 Court Place, Suite 140, Pryor, OK 74361.
Town of Langley | Town Hall, 324 West Osage Avenue, Langley, OK 74350.
Unincorporated Areas of Mayes County | Mayes County Courthouse, 1 Court Place, Suite 140, Pryor, OK 74361.
Ottawa County, Oklahoma and Incorporated Areas
Docket No.: FEMA-B-1819
City of Commerce | City Hall, 618 Commerce Street, Commerce, OK 74339.
City of Miami | Civic Center, 129 5th Avenue Northwest, Miami, OK 74355.
Town of Afton | Town Hall, 201 Southwest 1st Street, Afton, OK 74331.
Town of Fairland | City Hall, 28 North Main Street, Fairland, OK 74343.
Town of North Miami | City Hall, 309 Pine Street, North Miami, OK 74358.
Town of Quapaw | City Hall, 410 South Main Street, Quapaw, OK 74363.
Town of Wyandotte | City Hall, 212 South Main Street, Wyandotte, OK 74370.
Unincorporated Areas of Ottawa County | Ottawa County Courthouse Annex, 123 East Central Boulevard, Suite 103, Miami, OK 74354.
Wyandotte Nation | Tribal Administration, 64700 East Highway 60, Wyandotte, OK 74370.

[FR Doc. 2019-10396 Filed 5-17-19; 8:45 am]

BILLING CODE 9110-12-P